DEPARTMENT OF COMMERCE

National Institute of Standards and Technology

[Docket Number 111027658-1659-01]

Request for Comments on NIST Special Publication 500-293, US Government Cloud Computing Technology Roadmap, Release 1.0 (Draft)

AGENCY: National Institute of Standards and Technology (NIST), Department of Commerce.

ACTION: Notice; request for comments.

SUMMARY: The National Institute of Standards and Technology (NIST) publishes this notice to seek public comments on the first draft of Special Publication 500-293, US Government Cloud Computing Technology Roadmap, Release 1.0 (Draft). This document is intended to be the mechanism to define and communicate interoperability, portability, and security requirement priorities that must be met in terms of standards, guidance and technology for U.S. Government (USG) agencies to accelerate their adoption of cloud computing. The roadmap has been developed through a transparent working group process, which included five NIST Cloud Computing Working Groups that were established in November 2010.

DATES: Comments must be received on or before 5 p.m. Eastern time on December 2, 2011.

ADDRESSES: Written comments may be sent to: Robert Bohn, National Institute of Standards and Technology, 100 Bureau Dr., Stop 2000, Gaithersburg, MD 20899-2000. Electronic comments may be sent to: ccroadmap.comments@nist.gov.

The report will be available at: http://www.nist.gov/itl/cloud/index.cfm.

FOR FURTHER INFORMATION CONTACT: Robert Bohn, National Institute of Standards and Technology, 100 Bureau Dr., Stop 2000, Gaithersburg, MD 20899-2000, telephone (301) 975-4731.

SUPPLEMENTARY INFORMATION: The National Institute of Standards and Technology (NIST) has a technology leadership role in support of a secure and effectively adopted Cloud Computing model ¹ to reduce costs and improve services. This role is described in the 2011 Federal Cloud Computing Strategy ² as “a central one in defining and advancing standards, and collaborating with USG Agency CIOs, private sector experts, and international bodies to identify and reach consensus on cloud computing technology & standardization priorities.”

¹ NIST defines Cloud Computing as,”a model for enabling ubiquitous, convenient, on-demand network access to a shared pool of configurable computing resources (e.g., networks, servers, storage, applications, and services) that can be rapidly provisioned and released with minimal management effort or service provider interaction.” Special Publication 800-145 (Draft).

² Office of Management and Budget, U.S. Chief Information Officer, “Federal Cloud Computing Strategy,” Feb. 8, 2011. Online: http://www.cio.gov/documents/Federal-Cloud-Computing-Strategy.pdf.

In carrying out this role, NIST established the NIST Cloud Computing program and collaborative initiative to build a USG Cloud Computing Technology Roadmap. The release of the first draft of Special Publication 500-293, US Government Cloud Computing Technology Roadmap, Release 1.0 (Draft), for public comment marks completion of the first milestone step of this effort. The roadmap is intended to be the mechanism to define and communicate interoperability, portability, and security requirement priorities that must be met in terms of standards, guidance and technology for USG agencies to accelerate their adoption of cloud computing. The roadmap has been developed through a transparent working group process, which included five NIST Cloud Computing Working Groups that were established in November 2010. The technical work produced by these groups, which has been used to develop the roadmap document, has been made publicly available during the November 2010 through September 2011 timeframe.

Request for Comments

NIST requests comments from all interested parties on Special Publication 500-293, US Government Cloud Computing Technology Roadmap, Release 1.0 (Draft). Comments should be sent to the address or email address given above in the ADDRESSES section of this notice.

Dated: October 27, 2011.
Willie E. May,
Associate Director for Laboratory Programs.

[FR Doc. 2011-28285 Filed 10-31-11; 8:45 am]

BILLING CODE 3510-13-P